DEPARTMENT OF HOMELAND SECURITY

Coast Guard

DEPARTMENT OF TRANSPORTATION

Maritime Administration

[USCG-2003-14294]

El Paso Energy Bridge Gulf of Mexico, LLC Deepwater Port License Application

AGENCY: Coast Guard, DHS, and Maritime Administration, DOT.

ACTION: Notice of public hearing; request for comments.

SUMMARY: The U.S. Coast Guard (USCG) and the U.S. Maritime Administration (MARAD) will hold a public hearing to receive information relevant to the issuance or denial of the requisite federal license for the proposed El Paso Energy Bridge Gulf of Mexico, LLC (Energy Bridge GOM) Deepwater Port project. The proposed Energy Bridge GOM Deepwater Port would be located in West Cameron Area, South Addition, Block 603 (WC603) in the Central Area of the Gulf of Mexico, approximately 106 miles due south of the Louisiana coastline. We encourage interested individuals and organizations to attend the public hearing and submit comments. We also seek comments from anyone unable to attend the public hearing. In conjunction with the public hearing, the USCG and MARAD will also hold an informational open house regarding the proposed Energy Bridge GOM Deepwater Port project.

DATES: The public hearing will be held on Friday, October 3, 2003, 3 p.m. to 6 p.m., in New Orleans, Louisiana. The informational open house will be held on Friday, October 3, 2003, 1 p.m. to 3 p.m., in New Orleans, LA. The public hearing may be adjourned as early as 5 p.m. if there is no significant attendance or participation during the first two hours. The public hearing will continue beyond 6 p.m. if necessary to ensure all individuals present at that time who wish to comment have an opportunity to do so.

Comments intended for inclusion in the public docket [USCG-2003-14294] must reach the Docket Management Facility on or before November 17, 2003.

ADDRESSES: The public hearing and informational open house will be held at the following location: New Orleans Marriott, 555 Canal Street, New Orleans, Louisiana 70130, (504) 581-1000.

You may submit comments identified by Coast Guard docket number USCG-2003-14294 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: For further information concerning this notice, the Energy Bridge GOM Deepwater Port license application, or the public hearing or informational open house, contact Commander Mark Prescott, U.S. Coast Guard at (202) 267-0225 or mprescott@comdt.uscg.mil. For questions on viewing or submitting material to the docket, call Ms. Andrea Jenkins, Program Manager, Docket Operations, Department of Transportation, at (202) 366-0271.

SUPPLEMENTARY INFORMATION:

Public Participation and Request for Comments

Whether or not you attend the public hearing or informational open house, we encourage you to submit written comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number [USCG-2003-14294], indicate your specific concern, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this preamble as being available in the docket, go to http://dms.dot.gov at any time and conduct a simple search using the docket number USCG-2003-14294. You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Hearing/Informational Open House

The Coast Guard and the Maritime Administration will hold a public hearing from 3 p.m. to 6 p.m. on Friday, October 3, 2003, at the New Orleans Marriott, 555 Canal Street, New Orleans, Louisiana. An informational open house will be held prior to the public meeting from 1 p.m. to 3 p.m. at the same location. We invite the public and representatives of interested agencies to attend and provide comments on the proposed license application. If you plan to attend the public hearing or informational open house and need special assistance, such as sign language interpretation or other reasonable accommodations, contact the U.S. Coast Guard as indicated in FOR FURTHER INFORMATION CONTACT.

Proposed Deepwater Port Background Information

The proposed Energy Bridge GOM Deepwater Port would deliver natural gas to the United States Gulf Coast using existing gas supply and gathering systems in the Gulf of Mexico and Louisiana. Gas would then be delivered to shippers using the national pipeline grid through interconnections with major interstate and intrastate pipelines.

The project would consist of a Submerged Turret Loading (STL) system that would be comprised of a submerged turret buoy; chains, lines, and anchors; a flexible riser; and a subsea manifold. A 20-inch seabed pipeline would be constructed as part of the project.

Liquified natural gas (LNG) would be transported on an El Paso Energy Bridge Vessel (EPEBV) from various sources worldwide. When the EPEBV, a conventional LNG tanker fitted with regasification equipment on board the vessel, reached the location of the Deepwater Port, it would retrieve and connect to the STL system. The submerged buoy would be raised from its subsurface location, and drawn into an opening in the hull of the vessel. After the buoy was attached to the vessel, the on-board LNG regasification process would commence. The gas would then be discharged through the buoy into the subsea flexible riser, to the manifold, and finally to the pipeline which would enable additional natural gas supplies to enter key domestic markets in the United States.

License Application Background Information

The Energy Bridge GOM Deepwater Port license application was submitted to the Secretary of Transportation on December 20, 2002. The license application calls for construction of the Energy Bridge GOM Deepwater Port in an area situated in the Central Area of the Gulf of Mexico, approximately 106 miles south of the Louisiana coastline, in West Cameron Area, South Addition, Block 603 (WC603). Additional information concerning the contents of the application can be found online at http://dms.dot.gov under docket number USCG-2003-14294, or in the notice of application published in the Federal Register at 68 FR 3299 (January 23, 2003). This public hearing is being held pursuant to 33 U.S.C. 1504(g) to receive information relevant to the issuance or denial of the requisite federal license for the proposed Energy Bridge GOM Deepwater Port project.

Procedural

Any person who wishes may appear and speak or present evidence at this public hearing. Persons planning to speak at the hearing should contact the U.S. Coast Guard as indicated in FOR FURTHER INFORMATION CONTACT, any time prior to the hearing, indicating the approximate amount of time required. Written statements and exhibits may be submitted in place of or in addition to oral statements and will be made a part of the hearing record. Written statements and exhibits may be delivered before or during the hearing, or they may be submitted for up to 45 days following the date of the hearing to the Docket Management Facility listed under ADDRESSES.

Joseph J. Angelo,
Director of Standards, Marine Safety, Security, and Environmental Protection, Coast Guard.
Raymond R. Barberisi,
Director, Office of Ports and Domestic Shipping, U.S. Maritime Administration.

[FR Doc. 03-22528 Filed 9-3-03; 8:45 am]

BILLING CODE 4910-81-P